NUCLEAR REGULATORY COMMISSION

[Docket No. 50-458; License No. NPF-47]

In the Matter of: Entergy Gulf States, Inc., Entergy Operations, Inc. (River Bend Station, Unit 1); Order Approving Transfer of Facility Operating License and Conforming Amendment

I.

Entergy Gulf States, Inc. (EGS) and Entergy Operations, Inc. (EOI) are the holders of Facility Operating License NPF-47, issued by the U.S. Nuclear Regulatory Commission (NRC or Commission) pursuant to Title 10 of the Code of Federal Regulations (10 CFR), part 50, “Domestic Licensing of Production and Utilization Facilities.” The license authorizes the operation of River Bend Station, Unit 1 (RBS or facility), in accordance with terms and conditions specified therein. The facility is located in St. Francisville, West Feliciana Parish, Louisiana. The license authorizes EGS to possess the facility with respect to EGS's ownership of RBS, and EOI to use and operate the facility.

II.

By letter dated May 29, 2007, as supplemented by letters dated August 30 and September 19, 2007, EOI, acting on behalf of EGS and itself, submitted an application to the NRC requesting, pursuant to 10 CFR 50.80, approval of the direct transfer of the license for RBS from EGS to Entergy Gulf States Louisiana, LLC (EGS-LA). EOI also requested, pursuant to 10 CFR 50.90, approval of a conforming license amendment to the RBS, Unit 1, Operating License (NPF-47) to reflect the transfer. The transfer is associated with the planned restructuring of EGS under which ownership of RBS will be transferred from EGS, a Texas corporation, to EGS-LA, Louisiana limited liability company. EOI will continue to operate RBS, and thus there is no transfer of operating authority under the license proposed in the application.

Notice of the requests for approval and an opportunity for a hearing was published in the Federal Register on July 9, 2007 (72 FR 37266). No comments or hearing requests were received.

Pursuant to 10 CFR 50.80, no license, or any right thereunder, shall be transferred, directly or indirectly, through transfer of control of the license, unless the Commission shall give its consent in writing. Upon review of the information in the application and other information before the Commission, and relying upon the representations and agreements contained in the application, the NRC staff has determined that EGS-LA is qualified to hold the license for RBS to the extent now held by EGS, and that the transfer of the license to EGS-LA described in the application is otherwise consistent with applicable provisions of law, regulations, and orders issued by the Commission pursuant thereto, subject to the conditions set forth below. The NRC staff has further found that the application for the proposed license amendment complies with the standards and requirements of the Atomic Energy Act of 1954, as amended (the Act), and the Commission's rules and regulations set forth in 10 CFR Chapter I; the facility will operate in conformity with the application, the provisions of the Act, and the rules and regulations of the Commission; there is reasonable assurance that the activities authorized by the proposed license amendment can be conducted without endangering the health and safety of the public and that such activities will be conducted in compliance with the Commission's regulations; the issuance of the proposed license amendment will not be inimical to the common defense and security or the health and safety of the public; and the issuance of the proposed amendment will be in accordance with 10 CFR part 51 of the Commission's regulations and all applicable requirements have been satisfied.

The findings set forth above are supported by a safety evaluation dated October 26, 2007.

III.

Accordingly, pursuant to sections 161b, 161i, and 184 of the Atomic Energy Act of 1954, as amended, 42 U.S.C. 2201(b), 2201(i), and 2234, and 10 CFR 50.80, it is hereby ordered that the transfer of the license to EGS-LA, as described herein is approved, subject to the following conditions:

(1) At the time of the closing of the transfer of ownership of and the license for RBS from EGS to EGS-LA, the RBS decommissioning trust agreement(s) shall be amended to reflect EGS-LA as the owner of all the decommissioning trust funds accumulated as of the date of the closing.

(2) Prior to completion of the transfer of ownership of and the transfer for RBS, EGS-LA shall provide the Director of the Office of Nuclear Reactor Regulation satisfactory documentary evidence that it has obtained the appropriate amount of insurance required of licensees under 10 CFR part 140 of the Commission's regulations.

It is further ordered that, consistent with 10 CFR 2.1315(b), a license amendment that makes changes, as indicated in Enclosure 2 to the cover letter forwarding this Order, to conform the license to reflect the subject license transfer, is approved. The amendment shall be issued and made effective at the time the proposed license transfer is completed.

It is further ordered that EOI shall inform the Director of the Office of Nuclear Reactor Regulation in writing of the date of closing of the transfer no later than 5 business days prior to such action. Should the transfer of the license not be completed by October 25, 2008, this Order shall become null and void, provided, however, that upon written application and for good cause shown, such date may be extended by order.

This Order is effective upon issuance.

For further details with respect to this action, see the application dated May 29, 2007, the supplemental letters dated August 30 and September 19, 2007, and the safety evaluation dated October 26, 2007, which are available for public inspection at the Commission's Public Document Room (PDR), located at One White Flint North, 11555 Rockville Pike (first floor), Rockville, Maryland, and accessible electronically through the Agencywide Documents Access and Management System (ADAMS) Public Electronic Reading Room on the Internet on the NRC's Web site, http://www.nrc.gov/reading-rm/adams.html. Persons who do not have access to ADAMS or who encounter problems in accessing the document located in ADAMS, should contact the NRC PDR Reference Staff by telephone at 1-800-397-4209, 301-415-4737, or by e-mail to pdr@nrc.gov.

Dated at Rockville, Maryland, this 26th day of October, 2007.
For the Nuclear Regulatory Commission.
J.E. Dyer,
Director, Office of Nuclear Reactor Regulation.

[FR Doc. E7-21615 Filed 11-1-07; 8:45 am]

BILLING CODE 7590-01-P